FEDERAL COMMUNICATIONS COMMISSION

47 CFR Part 68

[CC Docket No. 99-216, FCC 00-400]

2000 Biennial Regulatory Review of Adopting Technical Criteria and Approving Terminal Equipment

AGENCY: Federal Communications Commission.

ACTION: Final rule; announcement of effective date.

SUMMARY: This document announces the effective date of certain rules privatizing and streamlining part 68 of the Federal Communications Commission (Commission)'s rules. The Commission amended its rules governing the connection of terminal equipment to the public switched telephone network to streamline the standards development and approval processes. These rules contained information collection requirements that became effective on May 9, 2001.

DATE: The amendments to 47 CFR 68.106 through 68.610 became effective May 9, 2001.

FOR FURTHER INFORMATION CONTACT: Susan Magnotti, (202) 418-2320 (voice), smagnotti@fcc.gov, or Dennis Johnson, (202) 418-2320 (voice), dcjohnso@fcc.gov, of the Network Services Division, Common Carrier Bureau. The TTY number is (202) 418-0484.

SUPPLEMENTARY INFORMATION: On December 21, 2000, the Commission adopted the Part 68 Streamlining Order which amended the Commission's rules governing the connection of terminal equipment to the public switched telephone network in an effort to privatize and streamline the standards development and approval processes; a summary of the order was published in the Federal Register. 66 FR 7579 (January 24, 2001). Some of the regulations adopted in that order included information collection that required approval from the Office of Management and Budget. The order explained that “[t]he collections of information contained within are contingent upon approval by the OMB. The Commission will publish a document at a later date establishing the effective date.” OMB approved the amendments to 47 CFR 68.106-68.610 that establish those reporting requirements. See OMB No. 3060-0056. Accordingly, these regulations became effective upon publication of a document in the Federal Register. This document constitutes publication of the effective date of the regulations.

List of Subjects in 47 CFR Part 68

Communications common carriers, Terminal equipment, Technical criteria.

Federal Communications Commission.
Magalie Roman Salas,
Secretary.

[FR Doc. 01-20439 Filed 8-14-01; 8:45 am]

BILLING CODE 6712-01-P